FEDERAL DEPOSIT INSURANCE CORPORATION

12 CFR Part 328

RIN 3064-AG14

FDIC Official Signs, Advertisement of Membership, False Advertising, Misrepresentation of Insured Status, and Misuse of the FDIC's Name or Logo

AGENCY: Federal Deposit Insurance Corporation.

ACTION: Notice of proposed rulemaking.

SUMMARY: The Federal Deposit Insurance Corporation (FDIC) is seeking comment on a proposal that would amend signage requirements for insured depository institutions' (IDIs) digital deposit-taking channels and automated teller machines (ATMs) and like devices. The proposed changes are intended to address implementation issues and sources of potential confusion that have arisen following the adoption of current signage requirements for these banking channels. The proposal would provide additional flexibility to IDIs while also enabling consumers to better understand when they are conducting business with an IDI and when their funds are protected by the FDIC's deposit insurance coverage.

DATES: Comments must be received by the FDIC no later than October 20, 2025.

ADDRESSES: You may submit comments, identified by RIN 3064-AG14, by any of the following methods:

• FDIC Website: https://www.fdic.gov/federal-register-publications. Follow instructions for submitting comments on the agency website.

• Email: Comments@fdic.gov. Include RIN 3064-AG14 in the subject line of the message.

• Mail: Jennifer M. Jones, Deputy Executive Secretary, Attention: Comments—RIN 3064-AG14, Federal Deposit Insurance Corporation, 550 17th Street NW, Washington, DC 20429.

• Hand Delivery to FDIC: Comments may be hand-delivered to the guard station at the rear of the 550 17th Street NW building (located on F Street) on business days between 7 a.m. and 5 p.m.

• Public Inspection: Comments received, including any personal information provided, may be posted without change to https://www.fdic.gov/federal-register-publications. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of the proposed rule will be retained in the public comment file and will be considered as required under all applicable laws. All comments may be accessible under the Freedom of Information Act.

Follow the search instructions on https://www.regulations.gov to view public comments.

This proposal, all comments received, and a summary of not more than 100 words of the proposed rule pursuant to the Providing Accountability Through Transparency Act of 2023 are available at https://www.fdic.gov/resources/regulations/federal-register-publications/.

FOR FURTHER INFORMATION CONTACT: Division of Depositor and Consumer Protection: Monika Jansen, Senior Policy Analyst, (202) 898-6781, MoJansen@fdic.gov; Edward Hof, Senior Policy Analyst, (202) 898-7213, EdwHof@fdic.gov; Meron Wondwosen, Assistant Director, (202) 898-3544, MeWondwosen@fdic.gov; Legal Division: Chantal Hernandez, Counsel, (202) 898-6678, ChHernandez@fdic.gov; Nathan Raygor, Senior Attorney, (202) 898-8688, NRaygor@fdic.gov; Shane Bogusz, Attorney, (571) 366-0212, SBogusz@fdic.gov.

SUPPLEMENTARY INFORMATION:

I. Policy Objectives

On December 20, 2023, the FDIC adopted a final rule that, among other things, amended the FDIC's sign and advertisement of membership regulations under subpart A of 12 CFR part 328 (the 2023 Final Rule).¹ In that final rule, the FDIC stated that it was seeking to bring the certainty and confidence historically provided by the FDIC official sign found at banks' teller windows to other banking channels used by consumers in the modern banking landscape.² Under the 2023 Final Rule, the FDIC established sign requirements across all banking channels (physical premises, digital deposit-taking channels, and ATMs and like devices). The FDIC further stated that it intended for the new signage requirements to better align with how depositors conduct business with IDIs today and to help inform consumers when their funds are FDIC-insured.³ The 2023 Final Rule requirements intended to more clearly distinguish deposit products (in which depositors' funds are insured) from non-deposit products and to help consumers distinguish IDIs from non-banks in the digital age.⁴ Moreover, as explained in the 2023 Final Rule, the FDIC intended to permit flexibility for IDIs and other firms in the marketing of their products and services.⁵

¹ 89 FR 3504 (Jan. 18, 2024).

² Id.

³ Id.

⁴ 89 FR 3504.

⁵ 89 FR 3504.

Under this proposed rulemaking, the FDIC seeks to minimize identified implementation issues, reduce burden, and address potential consumer confusion with respect to signage requirements for digital deposit-taking channels and ATMs and like devices. In particular, the FDIC proposes to amend signage requirements in 12 CFR 328.4 and 328.5. The FDIC is not proposing substantive amendments to other provisions under 12 CFR part 328.

II. Background

A. Statutory Authority and FDIC Regulations

The FDIC maintains stability and public confidence in the nation's financial system by, among other things, insuring the deposits of all IDIs. Section 18(a) of the Federal Deposit Insurance Act (FDI Act) ⁶ governs IDI sign and advertising statement requirements and grants the FDIC authority to prescribe regulations with respect to these requirements. The regulations implementing signage and advertisement requirements are contained in §§ 328.0 through 328.8 of subpart A of 12 CFR part 328 (subpart A). Subpart A applies to IDIs, including insured branches of foreign banks.

⁶ 12 U.S.C. 1828(a)(1).

In addition, section 18(a)(4) of the FDI Act ⁷ prohibits any person from misusing the name or logo of the FDIC or from engaging in false advertising or making knowing misrepresentations about deposit insurance. Regulations governing these prohibitions are contained in §§ 328.100 through 328.109 of subpart B of 12 CFR part 328.

⁷ 12 U.S.C. 1828(a)(4).

B. Previous Rulemaking

In the 2023 Final Rule, the FDIC updated signage requirements to apply across all banking channels to account for how depositors conduct business with IDIs in the modern banking landscape; namely the increasing use of digital channels and new services provided by ATMs and like devices. In particular, in the 2023 Final Rule, the FDIC established an FDIC official digital sign.⁸ The FDIC's rules require IDIs to display that sign on certain pages of its digital deposit-taking channels and ATMs and like devices.⁹ Moreover, the FDIC requires IDIs to display non-deposit signage to differentiate insured deposits from non-deposit products on digital deposit-taking channels and ATMs and like devices.¹⁰ As stated in the 2023 Final Rule, the FDIC intended for IDIs' use of the FDIC official digital sign and non-deposit signage to help consumers better understand when consumers are conducting business with an IDI and when their funds are FDIC-insured.

⁸ 12 CFR 328.5(b).

⁹ See 12 CFR 328.4(c) and (e) and 328.5(d).

¹⁰ See 12 CFR 328.4(d) and 328.5(g).

The amendments made in the 2023 Final Rule took effect on April 1, 2024; however, full compliance with the amendments was not required until January 1, 2025, to provide additional opportunity for IDIs to establish processes and systems and make technological updates necessary to implement the new regulatory requirements.¹¹ Based upon feedback from IDIs and other industry participants, in October 2024, the FDIC delayed the compliance date for the subpart A amendments to May 1, 2025, to provide additional time for IDIs to put in place processes and systems and make technological updates.¹²

¹¹ See 89 FR 3504, 3507 (Jan. 18, 2024).

¹² See 89 FR 84261 (Oct. 22, 2024). The compliance date for amendments to subpart B remained January 1, 2025.

In March 2025, the FDIC delayed the compliance date for 12 CFR 328.5, which governs signage requirements for digital deposit-taking channels, and the compliance date for 12 CFR 328.4, which includes analogous requirements related to an IDI's ATMs and like devices, from May 1, 2025 to March 1, 2026.¹³ The delay was intended to allow the FDIC to propose changes to the regulation for public comment to address implementation concerns and potential sources of confusion regarding the requirements.¹⁴

¹³ See id. Compliance with all other subpart A amendments was generally required by May 1, 2025.

¹⁴ See id.

C. Need for Rulemaking

Since the 2023 Final Rule was adopted, the FDIC has observed that, in practice, certain requirements may raise operational challenges for IDIs or result in consumer confusion. Following the adoption of the 2023 Final Rule, FDIC staff met with various stakeholders to discuss questions and concerns relating to the rule's requirements.

In particular, stakeholders identified challenges with implementing the display of the FDIC official digital and non-deposit signage on required pages and screens for digital deposit-taking channels, ATMs, and like devices. Some stakeholders stated that the signage requirements were “overly prescriptive” and “technical,” especially as to the specifications of the FDIC official digital sign. Additionally, some stakeholders stated that IDIs would benefit from additional flexibility in displaying the FDIC official digital sign on pages and screens where space is limited, particularly with respect to mobile banking.

Stakeholders also explained the difficulty in providing appropriate disclosures for customers moving to third-party websites or making certain transfers of funds between different accounts. Moreover, some stakeholders raised concerns that the signage requirements may cause consumers confusion when insured products are listed or advertised on the same page as non-deposit products, potentially leaving consumers unsure which products are FDIC-insured deposit products. These implementation challenges informed the FDIC's decision to twice delay the compliance date for the amended signage requirements for digital deposit-taking channels and ATMs and like devices. As part of the March 2025 delay of the compliance date, the FDIC stated its intention to propose changes for public comment.¹⁵

¹⁵ See 90 FR 11659 (Mar. 11, 2025).

To address concerns and challenges raised by stakeholders, the FDIC is proposing to clarify and provide greater flexibility with respect to the requirements regarding the (1) FDIC official digital sign design; (2) display of signage on digital deposit-taking channels; and (3) display of signage on ATMs and like devices. The FDIC believes the proposed amendments would advance the FDIC's policy objectives of helping consumers to better understand when they are doing business with an IDI and when their funds are FDIC-insured. The proposed amendments are described in greater detail below.

III. Description of the Proposed Rule

A. FDIC Official Digital Sign Design Requirements

Section 328.5(b) sets forth requirements for the design of the FDIC official digital sign. Those requirements include specific text, color, font, and size requirements, such as specific hexadecimal color codes and wordmark sizes. The FDIC's rules provide some flexibility for cases in which the required colors would be illegible due to the color of the background on a digital deposit-taking channel. In such cases, the FDIC's rules allow for the digital sign to be displayed in white (hexadecimal color code #FFFFFF).

Since the publication of the 2023 Final Rule, the FDIC has received questions about the design of the FDIC official digital sign. Some industry stakeholders asked whether there is any flexibility with respect to the color codes and font sizes, stating that the prescriptive design standards may become obsolete and that even slight variations from the specifications may result in noncompliance. Other questioners noted implementation challenges if a digital deposit-taking channel was not designed to use the specified color and size standards or if a digital deposit-taking channel offered multiple viewing settings, such as “dark mode.” As stated in the preamble to the 2023 Final Rule, the FDIC continues to believe that an easily recognizable, consistent FDIC official digital sign conveys the certainty and confidence historically provided by the physical FDIC official sign at banks' teller windows.¹⁶ The FDIC also, however, appreciates that design standards requiring specific color and font codes can present challenges for IDIs and may be overly prescriptive with respect to the policy goal.

¹⁶ 89 FR 3511 (Jan. 18, 2024).

Under the proposal, IDIs would have additional flexibility with respect to the color, font, and size that IDIs may use when displaying the FDIC official digital sign. While the proposed rule would still require the FDIC official digital sign to be displayed in either a combination of navy blue and black text or all-white text, the proposed rule would no longer prescribe specific hexadecimal color codes. The proposed rule would also no longer require a specific pixel size for the text in the FDIC official digital sign. In addition, the proposed rule would provide additional flexibility by allowing the font used for the FDIC official digital sign to be Source Sans Pro Web or a similar font. Finally, the proposed rule would eliminate font size requirements for the text of the FDIC official digital sign. Although the proposed rule would no longer provide for a specific font size, the FDIC official digital sign would have to be displayed in a clear and conspicuous manner, which would ensure its legibility. The FDIC notes that 12 CFR part 328 does not supersede or alter any other requirements that may apply to IDIs, including any requirements to comply with digital accessibility rules.

The proposed rule would also expressly permit IDIs to “wrap” the text of the FDIC official digital sign to address space constraints. In response to questions about whether any of the text in the FDIC official digital sign may be wrapped to better fit certain channels, such as mobile device applications, the FDIC provided guidance in “Questions and Answers Related to the FDIC's Part 328 Final Rule” ¹⁷ (Q&As). The Q&As stated that, in general, the FDIC official digital sign should be presented as shown in the 2023 Final Rule, but if the image does not fit a particular device or screen, the text of the FDIC official digital sign may be wrapped to fit the relevant screen.¹⁸ The proposed rule would adopt the standard discussed in the Q&As regarding text wrapping.

¹⁷ “Questions and Answers Related to the FDIC's Part 328 Final Rule” (July 15, 2024), II.A.6., available at: https://www.fdic.gov/deposit-insurance/questions-and-answers-related-fdics-part-328-final-rule.

¹⁸ See id.

B. Signage Requirements for IDIs' Digital Deposit-Taking Channels

1. FDIC Official Digital Sign Requirements for Digital Deposit-Taking Channels

The FDIC is also proposing to more appropriately focus the display of the FDIC official digital sign on digital deposit-taking channel pages and screens that are most relevant for consumers. Section 328.5(d) requires IDIs to display the FDIC official digital sign on an IDI's digital deposit-taking channel's initial page or homepage of the website or application; landing or login pages; and pages where the customer may transact with deposits. Following the adoption of the 2023 Final Rule, IDIs and other industry stakeholders raised questions and concerns with implementing these requirements, particularly with respect to “landing pages” and “pages where the customer may transact with deposits.”

a. Proposed Removal of Landing Page Requirement

The FDIC received feedback that “landing page” is not a term commonly used by IDIs with respect to IDIs' banking websites and applications, and industry stakeholders requested further clarification on the FDIC's intent. The FDIC recognizes that the term “landing page” is duplicative of “login page,” which is a term that is commonly understood and covers the same intended types of pages and screens. For this reason, the FDIC is proposing to remove the requirement to display the FDIC official digital sign on an IDI's “landing page” while retaining the requirement for IDIs to display the FDIC official digital sign on the “login page” of an IDI's digital deposit-taking channel.

b. Proposed Change to Pages Where the Customer May Transact With Deposits

With respect to the requirement to display the FDIC official digital sign on “pages where the customer may transact with deposits,” IDIs and other stakeholders requested clarification on which pages and screens are included for purposes of this requirement. Several IDIs informed the FDIC of technical challenges in implementing the requirements on “transact with deposits” pages. Such difficulties may arise when customizing transaction screens to provide for the display of the FDIC official digital sign in instances where the page (e.g., a transfer page) lists a customer's non-deposit account (e.g., investment account) as well as the customer's deposit account (e.g., checking account). Some IDIs and other stakeholders also raised concerns that customers may mistakenly believe that the FDIC official digital sign implies that FDIC insurance protects against erroneous or fraudulent transfers or that non-deposit products are FDIC-insured when the FDIC official sign is required on pages that also include non-deposit products.

The FDIC appreciates the technical challenges and potential for consumer confusion and is proposing to remove the requirement to display the FDIC official digital sign on “pages where the customer may transact with deposits.” The FDIC is proposing instead to require IDIs to display the FDIC official digital sign on the IDI's digital deposit-taking channels' page or screen where the consumer initiates a deposit account opening. The FDIC believes that displaying the FDIC official digital sign at the deposit account opening stage would provide a consumer with information regarding the insurability of funds held in the account so that the consumer may make an informed decision when opening a deposit account.

2. Static Non-Deposit Signage Requirements for Digital Deposit-Taking Channels

The proposed rule would narrow the required digital deposit-taking channel pages and screens on which IDIs must display non-deposit signage. Section 328.5(g)(1) requires IDIs to clearly, continuously, and conspicuously display non-deposit signage “on each page relating to non-deposit products” that indicates that non-deposit products: are not insured by the FDIC; are not deposits; and may lose value.

Some IDIs and other industry stakeholders raised questions and concerns with respect to this requirement. For example, some IDIs requested clarification as to the meaning of a page “relating” to non-deposit products and whether this term includes pages and screens with incidental references to non-deposit products, such as an IDI's homepage, or if references to non-deposit products in navigation menus or tabs would trigger the requirement. The FDIC also recognizes that display of the non-deposit sign may confuse consumers as to which products are FDIC-insured and not insured, particularly when both the FDIC official digital sign and non-deposit sign are displayed on the same page with references to both FDIC-insured deposit products and non-deposit products.

To address the questions and concerns raised, the proposed rule would more appropriately target display of the non-deposit sign. In particular, the proposed rule would require the display of non-deposit signage only on pages and screens that are primarily dedicated to one or more non-deposit products. The proposal would require non-deposit signage on pages and screens that offer or provide substantive information on one or more non-deposit products. For example, an IDI would be required to display non-deposit signage on the IDI's website page providing detailed information on annuities or pages where a consumer could purchase a non-deposit product. With this proposed change, IDIs would not be required to display non-deposit signage on pages or screens with incidental references to non-deposit products, such as the homepage or on the navigation menu that references non-deposit product pages.

3. Clear, Continuous, and Conspicuous Display

The proposed rule would continue to require IDIs to clearly, continuously, and conspicuously display the FDIC official digital sign and non-deposit signage on relevant pages. Following adoption of the 2023 Final Rule, many IDIs and other stakeholders requested clarification on where signage could be placed to meet the clear, continuous, and conspicuous standard. The proposed rule would provide IDIs with flexibility in meeting this standard given the unique designs of IDIs' websites and applications, as well as space constraints for smaller screens. The FDIC also recognizes additional clarification regarding this standard could be helpful for IDIs in implementing 12 CFR part 328's requirements. Accordingly, the proposed rule would provide a non-exhaustive list of examples on various placements of the FDIC official digital sign and non-deposit signage that would meet the clear, continuous, and conspicuous standard for IDIs' digital deposit-taking channels.

4. One-Time Notification for Bank Customers Related to Third-Party Non-Deposit Products

The FDIC is proposing to amend the requirement that an IDI provide a one-time notification to customers accessing third-party non-deposit products through an IDI's digital deposit-taking channel. Section 328.5(g)(2) requires IDIs to display a one-time notification when a bank customer logged into an IDI's digital deposit-taking channel attempts to access non-deposit products through a hyperlink (or similar web-linking feature) to a non-bank third-party platform. The FDIC's rules require the one-time notification to clearly and conspicuously indicate that the non-deposit products: are not insured by the FDIC; are not deposits; and may lose value. The FDIC's rules further require that a bank customer must dismiss the one-time notification before initially accessing the third-party's platform.

The FDIC received feedback from IDIs and other industry participants concerning the one-time notification requirement. IDIs cited operational challenges in implementing the one-time notification requirement, as well as concerns that the notification would be disruptive and would degrade the user experience for IDI customers.

The FDIC proposes to retain the requirement of a one-time notification when moving from an IDI to a non-bank and from an FDIC-insured deposit area to a non-deposit area. However, the proposal would provide IDIs additional flexibility with respect to the one-time notification requirement. Under the proposed rule, IDIs would be required to provide a notification that must be either dismissed by an act of the customer or dismissed automatically after the customer has been provided a reasonable opportunity to read the notification's content. For purposes of this requirement, a reasonable opportunity would constitute a period of time no less than three seconds.

Consistent with historical interpretations,¹⁹ the FDIC would view affiliated entities as “third parties” for purposes of the one-time notification requirement. As such, IDIs would be required to display the one-time notification when customers access affiliated third-party non-deposit products through an IDI's digital deposit-taking channel. The proposal would also make non-substantive organizational changes to the regulatory text of the one-time notification requirement.

¹⁹ See, e.g., 88 FR 37920 (June 9, 2023); FIL-9-94 (Feb. 17, 1994).

C. Signage Requirements for ATMs and Like Devices

1. FDIC Official Digital Sign Requirements for ATMs and Like Devices

The FDIC is proposing to amend 12 CFR 328.4(c) to provide IDIs with additional flexibility in displaying the FDIC official digital sign on ATMs and like devices. Under 12 CFR 328.4(c), for ATMs that receive deposits and offer access to non-deposit products, IDIs are required to display the FDIC official digital sign clearly, continuously, and conspicuously on an ATM or like device's “home page or screen and on each transaction page or screen relating to deposits.”

A number of IDIs and other stakeholders contacted the FDIC with questions regarding the implementation of this requirement, particularly in relation to the requirement to display the digital sign on “each transaction page or screen relating to deposits.” IDIs also expressed concern that consumers could be confused if the FDIC official digital sign were displayed on pages that contained information about both insured and uninsured accounts or products. IDIs further highlighted that, as with the transaction page requirement for digital deposit-taking channels, displaying the FDIC official digital sign on transfer pages may be challenging or unfeasible if the IDI operating the ATM cannot determine the insured status of funds sent to recipient institution accounts.

The proposal aims to simplify compliance for IDIs and mitigate potential consumer confusion by requiring the display of the FDIC official digital sign only on the initial screen of an IDI's ATM or like device. For purposes of this proposed requirement, an ATM's “initial screen” is the screen that is displayed before an IDI's customer inserts a debit card or other credentials to access the device (sometimes referred to as a “welcome screen”). This simplified requirement would continue to help ensure that consumers are informed when consumers are doing business with an IDI, while providing greater certainty for IDIs as to which ATM pages or screens would require display of the FDIC official digital sign.

2. Limited Exception for Certain ATMs and Like Devices To Display Physical FDIC Official Sign

The FDIC is proposing to expand an alternative to the FDIC official digital sign requirement for certain ATMs and like devices. Section 328.4 provides a limited exception to the FDIC official digital sign requirement for ATMs and like devices that do not offer non-deposit products and were placed into service prior to January 1, 2025, permitting such devices to display either the FDIC official digital sign or the physical FDIC official sign.²⁰

²⁰ See 12 CFR 328.4(b) and (e).

Since issuing the 2023 Final Rule, the FDIC has received a range of questions from IDIs concerning the availability of the physical FDIC official sign exception for existing ATMs and like devices. The FDIC understands that there are costs associated with updating ATMs and like devices that have already been placed into service to comply with new signage requirements. The FDIC also believes that the physical FDIC official sign provides sufficient assurance and clarity to consumers regarding the insured status of deposits at (1) existing ATMs and like devices and (2) ATMs and like devices that do not offer non-deposit products. To that end, the FDIC is proposing to expand the physical sign exception to a wider range of ATMs and like devices, giving IDIs greater flexibility to display either the physical FDIC official sign or the FDIC official digital sign on those devices. Specifically, under the proposal, this physical signage exception would be available to (1) all ATMs and like devices placed into service prior to January 1, 2027, and (2) all ATMs and like devices, regardless of when placed into service, that do not allow customers to transact with non-deposit products.

3. Degraded or Defaced Physical FDIC Official Signs

Section 328.4(f) provides that a degraded or defaced physical FDIC official sign on ATMs and like devices would not be considered to be displayed in a clear and conspicuous manner, as its display would be of little or no benefit to consumers. The FDIC proposes removing this provision. The FDIC believes this provision is not needed because an institution is required to clearly and conspicuously display the sign, and if the sign is not clear to consumers, the institution would not be displaying it clearly.

4. Non-Deposit Signage

Section 328.4(d) requires ATMs that receive deposits for an IDI and offer access to non-deposit products to clearly, continuously, and conspicuously display non-deposit signage “on each transaction page or screen relating to non-deposit products.” Such non-deposit signage must indicate that non-deposit products are not insured by the FDIC; are not deposits; and may lose value. The FDIC has received feedback that the 2023 Final Rule's non-deposit signage requirements for ATMs and like devices are overly broad and repetitive, as IDIs are required to display the non-deposit sign on each page within a single non-deposit transaction. In recognition of this and other considerations, the proposed rule would modify the non-deposit signage requirements for ATMs and like devices in two respects.

First, under the proposal, a narrower subset of ATMs and like devices would be subject to the non-deposit signage requirements. While the 2023 Final Rule's non-deposit signage requirements apply to an ATM or like device if it receives deposits for an IDI and offers access to non-deposit products, the proposal would apply to ATMs or like devices that receive deposits for an IDI and permit IDI customers to transact with one or more non-deposit products. This change would remove ATMs and like devices from the scope of the non-deposit signage requirements if, for example, they merely permit customers to view account balances for non-deposit products. Moreover, an IDI would only be required to display non-deposit signage for the IDI's own customers. The FDIC acknowledges the technical limitations IDIs face in verifying information for customers of other financial institutions using the IDI's ATMs and like devices (referred to as “non-customers”), including whether the non-customer is accessing FDIC-insured deposit accounts or non-deposit products. The proposed rule would not require IDIs to display non-deposit signage for pages and screens viewed by non-customers.

Second, the proposed rule would require the display of non-deposit signage on fewer pages and screens, reflecting a more focused approach. Although the 2023 Final Rule required non-deposit signage to be displayed on each transaction page or screen relating to non-deposit products, the proposal would require non-deposit signage to appear only on the initial transaction page or screen for a non-deposit product. This change would simplify IDIs' compliance with the non-deposit signage requirement while ensuring that signage continues to be displayed where it is most relevant to consumers: the first screen displayed upon beginning a transaction with a non-deposit product.

These changes would focus the non-deposit signage requirements on devices and screens that provide the disclosures to consumers at the most appropriate place and time.

D. Compliance Date

The FDIC acknowledges that some IDIs are currently displaying signage on their digital deposit-taking channels and ATMs and like devices consistent with the 2023 Final Rule, while other IDIs are not displaying signage as permitted under the delayed compliance date period. The FDIC recognizes that all IDIs will need time to update systems and processes to implement changes in compliance with the proposed amendments. Accordingly, the FDIC proposes the compliance date of January 1, 2027. If the FDIC adopts a final rule amending the existing regulation, the FDIC would also review any associated Q&As published on the FDIC website as warranted based on the specific revisions adopted.

E. Technical Amendment

The FDIC also proposes to make a technical amendment to 12 CFR part 328. Section 328.5(c) currently provides for a “digital symbol” that is defined as the portion of the FDIC official digital sign “consisting of `FDIC' and the one line of smaller type to the right of `FDIC'.” While this provision defining the digital symbol is located in subpart A of 12 CFR part 328, 12 CFR part 328 discusses the use of the digital symbol only in subpart B, which addresses false advertising, misrepresentation of insured status, and misuse of the FDIC's name or logo. Given that the digital symbol concept applies specifically to the context of subpart B, the proposed rule would implement a technical amendment to transfer the text providing for, and defining, the digital symbol to 12 CFR 328.101 of subpart B. This non-substantive change would promote readability by ensuring that the definition is physically located in the relevant subpart of the regulation.

IV. Expected Effects

The proposed changes to 12 CFR part 328.4 and 328.5 are intended to clarify the requirements for the display of the FDIC official digital sign and non-deposit signage, as well as clarify when such signage is required for ATMs and similar devices. These requirements apply to all IDIs. To the extent that some IDIs have not already implemented changes to their digital operations to comply with 12 CFR part 328.4 and 328.5, the proposed rule would reduce the number of hours spent to update their systems. The proposed rule would also reduce the number of hours spent by all IDIs to maintain ongoing compliance with 12 CFR part 328.4 and 328.5. Given this decrease in burden, the proposed changes are not expected to result in any substantive direct costs to impacted IDIs. Instead, they are expected to generate cost savings in the form of reduced administrative effort and resource allocation. In addition, the proposed rule would benefit IDIs' customers, who would have a more streamlined and clutter-free browsing experience.

A. Cost Savings: Implementation

If adopted, the proposed rule could benefit IDIs by reducing implementation costs such as labor costs to make changes to an IDI's IT systems, contracting costs to make changes to in-house or third-party IT systems, costs to upgrade hardware for ATMs and similar devices, and labor costs to make changes to internal compliance policies and procedures. The cost savings that would result from the proposed rule vary by IDI depending on the size and complexity of their digital deposit-taking channels, the number of ATMs and like devices, and the degree to which IDIs rely on third-party service providers to provide these channels, ATMs or like devices. The FDIC does not have the information necessary to quantify all cost savings associated with the proposed rule. However, the FDIC believes that these benefits will be material for certain IDIs because stakeholders have, as previously discussed, identified related challenges with adopting certain provisions of 12 CFR part 328.

Although the FDIC cannot quantify all cost savings associated with the proposed rule, it has quantified certain estimated cost savings for IDIs associated with the changes to recordkeeping, reporting, and disclosure requirements for digital signage and non-deposit signage obligations. The FDIC recognizes that the cost estimates in the 2023 final rule may have understated the actual costs, and thus the estimated cost savings in this proposal may likewise understate the actual cost savings, but the FDIC is using the best estimates it has available.

As of this date, 4,471 IDIs are subject to 12 CFR part 328. As previously discussed, the proposed rule would pose two principal effects for affected IDIs. First, the proposal would reduce the number of digital screens or pages on which the FDIC official digital sign must appear. Second, the proposal would narrow certain non-deposit signage requirements. Based on these changes, the FDIC estimates an average reduction of 19 hours per IDI for implementation-related recordkeeping, reporting and disclosure activities only.²¹ At an estimated average hourly labor cost of $118,²² the proposed rule would result in cost savings of $2,242 per IDI, on average, in the implementation year prior to the compliance deadline for the proposed rule. Across 4,471 IDIs, the estimated effect is approximately $10 million in implementation cost savings.²³

²¹ The 19 hours represent a 32 percent time savings from the 60 hours of implementation burden estimated in the 2023 Final Rule.

²² To estimate the average hourly labor cost, the FDIC assumes that 17.5, 17.5, and 65 percent of the labor used to comply with the 2023 Final Rule would be by Managers/Executives (at $159.03 per hour), Compliance Officers (at $80.68 per hour), and IT professionals (at $116.37 per hour), respectively. The FDIC uses the 75th percentile hourly wages reported by the Bureau of Labor Statistics (BLS) National Industry-Specific Occupational Employment and Wage Estimates (OEWS) for the relevant occupations in the Depository Credit Intermediation sector as of May 2024. These wages were increased by 53 and 5 percent to account for non-wage compensation and wage inflation between May 2024 and March 2025.

²³ 19 hours × $118 per hour × 4,471 institutions = $10,023,982.

Although the 2023 Final Rule is already effective, compliance with 12 CFR 328.4 and 328.5 has been postponed until March 1, 2026.²⁴ However, some IDIs may have already taken steps to implement the 2023 Final Rule in anticipation of its original compliance deadline of January 1, 2025, or its revised compliance deadline of March 1, 2026. As a result, these IDIs may not realize full cost savings from the proposed changes. In some cases, they may even incur voluntary costs to reverse or modify signage or systems that are no longer required under the proposal. It is also possible that such IDIs will choose to maintain compliance with the broader requirements in the 2023 Final Rule and therefore avoid any reversal costs. For purposes of this analysis, the FDIC assumes that all IDIs would experience cost savings generated by the proposed rule and estimate the average cost savings for an IDI that has not yet taken steps to comply with current requirements under 12 CFR part 328.4 and 328.5.

²⁴ See 90 FR 11659, published on March 11, 2025.

While the quantified implementation cost savings may be relatively small, the unquantified implementation cost savings are likely to be material for some IDIs.

B. Cost Savings: Ongoing Compliance

In addition to reducing implementation burden in the period leading to the proposed amended compliance date, the proposed rule would generate ongoing compliance cost savings in subsequent years. IDIs typically incur recurring compliance costs to maintain, review, and update their signage and related systems in accordance with regulatory requirements. Further, ongoing compliance with FDIC signage requirements can be a factor in costs for third-party service agreements, hardware replacement, as well as validation and testing of service delivery channels. The FDIC does not have the information necessary to quantify all ongoing cost savings associated with the proposed rule. However, the proposed rule would reduce the scope of these ongoing activities and thereby generate associated cost savings for IDIs. As noted above, these savings will vary across IDIs, based on the size and complexity of their operations.

For purposes of this analysis, the FDIC has quantified ongoing cost savings for IDIs associated with the changes to recordkeeping, reporting, and disclosure requirements for digital signage and non-deposit signage obligations only. The FDIC categorizes IDIs by asset size as a proxy for the complexity of digital operations, consistent with the methodology used in the 2023 Final Rule: IDIs with less than $10 billion in assets and those with $10 billion or more. According to the latest Call Report data, there are 4,311 IDIs in the smaller IDI group and 160 in the larger.²⁵ The FDIC estimates that the proposed rule would reduce ongoing recordkeeping, reporting, and disclosure compliance labor hours for smaller IDIs by an average time savings of 3 hours and 10 minutes. For larger IDIs, the estimated time savings is 6 hours and 20 minutes annually.²⁶

²⁵ Call Reports for the quarter ending March 31, 2025.

²⁶ The estimated time savings of 3 hours and 10 minutes for smaller IDIs and 6 hours and 20 minutes for larger IDIs are approximately 32 percent of the corresponding burdens estimated in the 2023 Final Rule and are proportionally in line with the estimated time savings for the implementation cost.

Using the same estimated average hourly labor cost of $118 as above, the estimated ongoing annual cost savings are approximately $374 per small IDI and $747 per large IDI, on average, for a total annual cost savings of approximately $1.6 million for smaller IDIs and approximately $120 thousand for larger IDIs. This yields a total estimated ongoing annual cost savings associated with changes to recordkeeping, reporting, and disclosure requirements of approximately $1.7 million across all FDIC-insured depository institutions.

C. Intangible Benefits and Costs

The proposed changes may also result in indirect or intangible effects that are more difficult to quantify.

In addition, the proposed rule would benefit consumers by improving their experience with IDIs' digital channels. For example, the proposed changes would allow IDIs to tailor digital signage placement to better meet the needs of the customer, resulting in more targeted and less duplicative disclosures. The elimination of the notification dismissal requirement would reduce interruptions to the browsing experience. The removal of the requirement to display the FDIC official digital sign on “pages where the customer may transact with deposits” would eliminate consumer confusion about which products are FDIC-insured when a page shows both deposit and non-deposit products. Overall, these proposed changes would lead to a more streamlined and less cluttered customer experience. The FDIC does not have the data available to quantify these effects but believes the proposed rule would provide substantial benefits to consumers of IDI's digital channels.

At the same time, the proposed changes may introduce some intangible costs. For example, reducing signage requirements could result in less visible or less consistent disclosure of deposit insurance coverage. IDIs that have already implemented changes to their digital operations to comply with 12 CFR part 328 may incur some costs to modify their systems in response to the proposed rule. More flexibility in how different institutions implement the requirements could potentially lead to greater variability in customer experience across the industry. The FDIC believes these effects will be minimal; under the proposed rule, 12 CFR part 328 would still require IDIs digital operations to provide clarity to consumers about the extent to which or the manner in which products are insured by the FDIC.

Finally, the timing of compliance may also influence intangible effects. Given the proposed extension of the compliance date until January 1, 2027, some institutions would benefit from increased flexibility in integrating the new requirements into ongoing system updates or signage cycles. However, a longer transition period may also lead to temporary inconsistencies in signage across institutions, which could affect customer experience to a limited extent.

The FDIC invites comments on all aspects of the supporting information provided in this Expected Effects section. The FDIC is particularly interested in comments on any significant benefits or costs that the agency has not identified.

V. Alternatives Considered

The FDIC has considered several alternatives to the proposed rule that could meet the objectives of this rulemaking, including proposals suggested by commenters in response to the 2023 Final Rule. For the reasons described, the FDIC views the proposed rule as the most appropriate and effective means of achieving its policy objectives with respect to 12 CFR part 328.

The FDIC considered not promulgating any regulatory action to amend 12 CFR part 328. However, as previously discussed, the FDIC has identified challenges with, and potential improvements for, the FDIC's sign and advertisement regulations under subpart A of 12 CFR part 328. As discussed in section IV, Expected Effects, of this document, the proposed rule has clear, quantifiable cost savings, among other benefits, over this no-action alternative with minimal costs to IDIs and their customers.

The FDIC also considered eliminating the regulations in 12 CFR 328.4 and 328.5 to remove digital signage requirements entirely. However, as described in the 2023 Final Rule, the FDIC believes there are benefits to updates to 12 CFR part 328 to address potential uncertainties that could dilute or undermine the confidence that underpins banks and our nation's broader financial system. The proposed rule would advance the 2023 Final Rule's objective to ensure that consumers, businesses, and other entities better understand when their funds are protected by FDIC deposit insurance, while increasing the flexibility for IDIs in the marketing of their products and services.

The FDIC invites comments on alternatives to the proposed rule.

VI. Regulatory Analysis

A. Regulatory Flexibility Act

The Regulatory Flexibility Act (RFA) generally requires an agency, in connection with a proposed rule, to prepare and make available for public comment an initial regulatory flexibility analysis that describes the impact of the proposed rule on small entities.²⁷ However, an initial regulatory flexibility analysis is not required if the agency certifies that the proposed rule will not, if promulgated, have a significant economic impact on a substantial number of small entities. The Small Business Administration (SBA) has defined “small entities” to include banking organizations with total assets of less than or equal to $850 million.²⁸ Generally, the FDIC considers a significant economic impact to be a quantified effect in excess of 5 percent of total annual salaries and benefits or 2.5 percent of total noninterest expenses. The FDIC believes that effects in excess of one or more of these thresholds typically represent significant economic impacts for FDIC-supervised institutions. For the reasons described below, the FDIC certifies that the proposed rule will not have a significant economic impact on a substantial number of small entities.

²⁷ 5 U.S.C. 601 et seq.

²⁸ The SBA defines a small banking organization as having $850 million or less in assets, where an organization's “assets are determined by averaging the assets reported on its four quarterly financial statements for the preceding year.” See 13 CFR 121.201 (as amended by 87 FR 69118, effective December 19, 2022). In its determination, the “SBA counts the receipts, employees, or other measure of size of the concern whose size is at issue and all of its domestic and foreign affiliates.” See 13 CFR 121.103. Following these regulations, the FDIC uses an insured depository institution's affiliated and acquired assets, averaged over the preceding four quarters, to determine whether the insured depository institution is “small” for the purposes of RFA.

As described in section IV, Expected Effects, of this document, the proposed rule would affect all institutions whose deposits are insured by the FDIC. According to recent Call Reports, there are 4,471 such IDIs.²⁹ Of these, approximately 3,130 would be considered small entities for the purposes of the RFA (small entity IDIs).³⁰

²⁹ FDIC Call Reports, March 31, 2025.

³⁰ Id.

As a result of the proposed rule, IDIs with less than $10 billion in assets ³¹ would spend an estimated 19 fewer hours, on average, to update their digital operations in the first year in order to comply with the recordkeeping, reporting, and disclosure provision of the 2023 Final Rule. At average labor costs of $118 per hour,³² the estimated first-year cost savings would be approximately $2,242 per IDI, or approximately $7 million for all small entity IDIs—less than a tenth of a percent of annual salaries and benefits for these 3,130 entities in aggregate. At the individual IDI level, the estimated first-year cost savings would not exceed even one percent of the total annual salaries and benefits for any small entity IDI. For subsequent years, the estimated costs savings are even smaller: an IDI with less than $10 billion in assets is expected to spend 3 hours and 10 minutes less (equivalent to $374) per year,³³ on average, to comply with the recordkeeping, reporting, and disclosure provisions within part 328 as a result of the proposed rule. Thus, the proposed rule is unlikely to significantly impact any small entity IDI.

³¹ All 3,130 small entity IDIs have less than $10 billion in assets.

³² To estimate the average cost of compensation per hour, the FDIC assumes that approximately 17.5, 17.5, and 65 percent of the labor used to comply with the 2023 Final Rule would be by Managers/Executives (at $159.03 per hour), Compliance Officers (at $80.68 per hour), and IT professionals (at $116.37 per hour), respectively. The FDIC uses the 75th percentile hourly wages reported by the Bureau of Labor Statistics (BLS) National Industry-Specific Occupational Employment and Wage Estimates (OEWS) for the relevant occupations in the Depository Credit Intermediation sector as of May 2024. These wages were increased by approximately 53 and 5 percent to account for non-wage compensation and wage inflation between May 2024 and March 2025.

³³ $374 per year = 3:10 hours × $118 per hour.

The proposed rule would also provide benefits other than the cost savings described above, including greater flexibility in signage design and placement, improved customer experience, and reduced staff time allocated to maintaining signage compliance across multiple channels and devices. As noted in section IV, Expected Effects, of this document, the FDIC is unable to quantify these effects. However, the FDIC believes these effects, while potentially substantive for certain IDIs, are likely to be minimal in the aggregate.

Given the expected effects of the proposed rule described above, the FDIC certifies that the proposed rule would not have a significant economic impact on a substantial number of small entities.

The FDIC invites comments on all aspects of the supporting information provided in this RFA section. The FDIC is particularly interested in comments on any significant effects on small entities that the agency has not identified.

B. Paperwork Reduction Act

Certain provisions of the proposed rule contain “collections of information” within the meaning of the Paperwork Reduction Act (PRA) of 1995.³⁴ In accordance with the requirements of the PRA, the FDIC may not conduct or sponsor, and the respondent is not required to respond to, an information collection unless it displays a currently valid Office of Management and Budget (OMB) control number. The information collections contained in the proposed rule have been submitted to OMB for review and approval by the FDIC under section 3507(d) of the PRA ³⁵ and 5 CFR 1320.11 of OMB's implementing regulations.³⁶ The FDIC is proposing to extend for three years, with revision, these information collections.

³⁴ 44 U.S.C. 3501 et seq.

³⁵ 44 U.S.C. 3507(d).

³⁶ 5 CFR 1320.

Title of information Collection: FDIC's Official Sign and Advertising Requirements, False Advertising, Misrepresentation of Insured Status, and Misuse of the FDIC's Name or Logo.

OMB Number: 3064-0219.

Frequency of Response: Periodic—see table below.

Affected Public: Businesses or other for-profit.

Respondents: Any FDIC-insured depository institution and persons that provide deposit-related services to insured depository institutions or offer insured depository institution's deposit-related products or services to other parties.

Current Actions: The proposed rule would revise the currently approved information collection to streamline the requirements to display the FDIC official digital sign and the display of non-deposit signage to certain pages.

First, the proposal would reduce the number of digital screens or pages on which the FDIC official digital sign must appear. Under the 2023 Final Rule, IDIs are typically required to display the FDIC official sign across an open-ended number of locations, most likely at least six. The proposed rule would eliminate the requirement to post the official digital sign on pages where a consumer may transact with deposits, which could represent multiple pages (transfer pages, remote deposit capture pages, and account opening pages, for example). Overall, the proposed rule would reduce this requirement to four key locations on digital channels and ATMs and like devices: (a) on digital channels, the requirement would drop from an open-ended number of pages (initial or homepage, landing or login, and pages where a consumer may transact with deposits) to just three (initial or homepage, login page, and the screen used to initiate a deposit account opening); and (b) for ATMs and like devices, the requirement would be reduced from at least two or more screens (home and each deposit-related transaction screen) to only the initial screen.

Second, the proposal would narrow the non-deposit signage requirements: (a) for digital channels, non-deposit signage would no longer be required on all pages related to non-deposit products; instead, non-deposit signage would only be required on pages primarily dedicated to one or more non-deposit products, thereby reducing the number of applicable pages; and (b) for ATMs and like devices, the proposal would both limit the types of devices that require non-deposit signage (only those enabling transactions with non-deposit products) and reduce the number of screens where signage must appear (from all related screens to only the initial non-deposit product screen).

These proposed changes are reflected in information collections 3-5 on the table below. Based on available data, the estimated annual burden associated with the information collection would decrease.

Summary of Estimated Annual PRA Burden
Information collection (obligation to respond) | Type of burden (frequency of response) | Number of respondents | Average number of responses per respondent | Average time per response (HH:MM) | Annual burden (hours)
1. Signs within Institution Premises—Banks <$10B, 12 CFR 328.3 (Mandatory) | Third-Party Disclosure (Annual) | 4,496 | 7 | 1:00 | 31,472
2. Signs within Institution Premises—Banks >=$10B, 12 CFR 328.3 (Mandatory) | Third-Party Disclosure (Annual) | 158 | 279 | 2:00 | 88,164
3. Signage for ATMs and Digital Deposit-taking Channels—Implementation, 12 CFR 328.4 and 328.5 (Mandatory) | Third-Party Disclosure (Annual) | 4,471 | 0.333 | 41:00 | 61,049
4. Signage for ATMs and Digital Deposit-taking Channels—Banks <$10B—Ongoing, 12 CFR 328.4 and 328.5 (Mandatory) | Third-Party Disclosure (Annual) | 4,311 | 0.667 | 6.50 | 19,646
5. Signage for ATMs and Digital Deposit-taking Channels—Banks >=$10B—Ongoing, 12 CFR 328.4 and 328.5 (Mandatory) | Third-Party Disclosure (Annual) | 160 | 0.667 | 13.40 | 1,462
6. Policies and Procedures—Implementation, 12 CFR 328.8 (Mandatory) | Recordkeeping (Annual) | 1,551 | 1 | 80:00 | 124,080
7. Policies and Procedures—Ongoing, 12 CFR 328.8 (Mandatory) | Recordkeeping (Annual) | 3,103 | 1 | 12:00 | 37,236
8. Insured Depository Institution Relationships—Implementation 12 CFR 328.102(b)(5) (Mandatory) | Third-Party Disclosure (Annual) | 500 | 1 | 2:30 | 1,250
9. Insured Depository Institution Relationships—Ongoing 12 CFR 328.102(b)(5) (Mandatory) | Third-Party Disclosure (Annual) | 1,000 | 1 | 1:00 | 1,000
10. Request for Consent to Use Non-English Language Advertising Statement—12 CFR 328.6(f) (Required to Obtain or Retain a Benefit) | Reporting (On occasion) | 1 | 1 | 2:00 | 2
Total Annual Burden (Hours) |  |  |  |  | 365,361
Source: FDIC.
Note: The annual burden estimate for a given collection is calculated in two steps. First, the total number of annual responses is calculated as the whole number closest to the product of the annual number of respondents and the annual number of responses per respondent. Then, the total number of annual responses is multiplied by the time per response and rounded to the nearest hour to obtain the estimated annual burden for that collection. This rounding ensures the annual burden hours in the table are consistent with the values recorded in the OMB's regulatory tracking system.
This proposal would result in a decrease in the average time per response for lines 3-5 in the table. The remaining ICs are presented for renewal without change.

Comments are invited on:

(a) Whether the collection of information is necessary for the proper performance of the FDIC's functions, including whether the information has practical utility;

(b) The accuracy of the estimate of the burden of the information collection, including the validity of the methodology and assumptions used;

(c) Ways to enhance the quality, utility, and clarity of the information to be collected; and

(d) Ways to minimize the burden of the information collection on respondents, including through the use of automated collection techniques or other forms of information technology.

All comments will become a matter of public record. Comments on aspects of this document that may affect reporting, recordkeeping, or disclosure requirements and burden estimates should be sent to the address listed in the ADDRESSES section of this document. Written comments and recommendations for this information collection also should be sent within 60 days of publication of this document to www.reginfo.gov/public/do/PRAMain. Find this particular information collection by selecting “Currently under 60-day Review—Open for Public Comments” or by using the search function.

C. Plain Language

Section 722 of the Gramm-Leach Bliley Act ³⁷ requires the Federal banking agencies to use plain language in all proposed and final rules published after January 1, 2000. The FDIC invites your comments on how to make the proposed rule easier to understand. For example:

³⁷ Public Law 106-102, section 722, 113 Stat. 1338, 1471 (1999), 12 U.S.C. 4809.

• Has the FDIC organized the material to suit your needs? If not, how could the proposed rule be more clearly stated?

• Are the requirements in the proposed rule clearly stated? If not, how could the proposed rule be more clearly stated?

• Does the proposed rule contain language or jargon that is not clear? If so, which language requires clarification?

• Would a different format (grouping and order of sections, use of headings, paragraphing) make the proposed rule easier to understand? If so, what changes to the format would make the proposed rule easier to understand?

• What else could the FDIC do to make the proposed rule easier to understand?

D. Riegle Community Development and Regulatory Improvement Act of 1994

Pursuant to section 302(a) of the Riegle Community Development and Regulatory Improvement Act of 1994 (RCDRIA),³⁸ in determining the effective date and administrative compliance requirements for new regulations that impose additional reporting, disclosure, or other requirements on IDIs, each Federal banking agency must consider, consistent with principles of safety and soundness and the public interest, any administrative burdens that such regulations would place on affected depository institutions, including small depository institutions, and customers of depository institutions, as well as the benefits of such regulations. In addition, section 302(b) of the RCDRIA requires new regulations and amendments to regulations that impose additional reporting, disclosures, or other new requirements on IDIs generally to take effect on the first day of a calendar quarter that begins on or after the date on which the regulations are published in final form. The FDIC invites comments that further will inform its consideration of the RCDRIA.³⁹

³⁸ 12 U.S.C. 4802(a).

³⁹ 12 U.S.C. 4802(b).

E. Executive Order 12866 and 14192

Executive Order 12866, as amended, provides that the Office of Information and Regulatory Affairs (OIRA) will review all “significant regulatory actions” as defined therein. OIRA has determined that this proposal is not a “significant regulatory action” for purposes of Executive Order 12866. The proposal, if finalized as proposed, is not expected to be an Executive Order 14192 regulatory action.

VII. Request for Comment

The FDIC invites comment on all aspects of this proposed rulemaking. In particular, the FDIC seeks feedback on the scope of the proposed rule and its requirements, and responses to the following specific questions:

FDIC Official Digital Sign Design

(1) Do the proposed rule's requirements regarding the color, size, and font of the FDIC official digital sign's text provide a reasonable amount of flexibility while ensuring that the official digital sign is easily recognizable, consistent, and conveys the certainty and confidence historically provided by the physical FDIC official sign at banks' teller windows? If not, please identify any additional or alternative requirements to the design of the official digital sign that would provide further flexibility while meeting the recognizability, consistency, and confidence of the policy objectives.

(2) Are there substantive changes to the text of the FDIC official digital sign, such as including the phrase, “Deposits are FDIC-insured,” that would provide additional clarity? Should IDIs be permitted to amend or add to the text of the FDIC official digital sign? If so, please provide details regarding the level of flexibility or specific text suggestions. Are there downsides to changes to the text or additional flexibility?

(3) Should the proposed rule include a minimum size font for the text of the FDIC official digital sign? If so, would this work for mobile phone applications with a small amount of space? If not, are there other ways to ensure that the FDIC official digital sign is readable, legible, and clear?

(4) Do the proposed rule's requirements regarding the design of the FDIC official digital sign present technical challenges? If so, please provide specific examples and potential alternatives that would support the FDIC's stated policy objectives while mitigating compliance and other costs.

(5) Should the proposed rule clarify what “similar fonts” to Source Sans Pro Web are permissible for the display of the FDIC official digital sign? If so, please suggest ways of providing such clarification.

Signage Requirements for Digital Deposit-Taking Channels

(6) Are there additional ways the FDIC could clarify which pages and screens of an IDI's digital deposit-taking channel would be required to display the FDIC official digital sign?

(7) Does the proposed rule sufficiently address the stated policy objective of addressing risk of confusion where consumers interact with deposits and non-deposit products through the same digital channels? Are there any additional or alternative requirements that would draw a clear distinction between deposits and non-deposit products on digital channels?

(8) Do the proposed rule's requirements regarding the display of the FDIC official digital sign present technical challenges that are not sufficiently mitigated by the flexibility provided? If so, are there ways to address those challenges while still displaying the FDIC official digital sign in a recognizable and consistent manner that mitigates consumer confusion?

(9) The proposed rule would require the display of non-deposit signage only on pages and screens that are “primarily dedicated” to one or more non-deposit products. Is the meaning of “primarily dedicated” sufficiently clear as to which pages and screens require the non-deposit signage?

(10) The proposed rule would require that the FDIC official digital sign and non-deposit signage on certain digital deposit-taking channels be displayed clearly, continuously, and conspicuously. How can the FDIC provide additional guidance on whether a particular instance of the FDIC official digital sign or non-deposit signage on a given page is displayed “clearly, continuously, and conspicuously”?

(11) Does the proposed rule's minimum three-second duration for the display of the one-time notification before automatic dismissal provide consumers with sufficient opportunity to read and understand the content of the notification? Is there an alternative duration that would set a more appropriate minimum standard for the display of the one-time notification? Are there other alternative approaches besides a minimum duration that would achieve the stated policy objectives?

(12) Should the one-time notification requirement apply when the third-party is an affiliate of an IDI? If so, why, and if not, why not?

Sign Requirements for ATMs and Like Devices

(13) Is the proposed rule sufficiently clear as to which pages and screens on ATMs and like devices are required to display the FDIC official digital sign? If not, how could the proposed rule be clearer?

(14) The proposed rule would require non-deposit signage to be displayed on an ATM or like device only on the initial transaction page or initial transaction screen for a non-deposit product. Is it sufficiently clear which page or screen would be the “initial transaction page or initial transaction screen” for purposes of this requirement? If not, how could the requirement be clearer?

(15) For ATMs and like devices that display the physical FDIC official sign, are minimum standards for the condition, clarity, or conspicuousness of the sign necessary to ensure consumers are able to view the sign's content? If so, what should those standards be?

(16) What risks of consumer confusion or uncertainty, if any, are presented by having different signage requirements for ATMs and like devices based on the date on which they are placed into service?

(17) Do the proposed rule's requirements that the FDIC official digital sign be displayed on an ATM's initial screen and that non-deposit signage be displayed on the initial non-deposit product transaction page provide enough clarity about whether a product is insured while providing reasonable flexibility to IDIs?

Compliance Date

(18) For IDIs that have complied with the 2023 Final Rule, is the proposed January 1, 2027 compliance date sufficient to allow IDIs to revise systems and processes to ensure digital deposit-taking channels, ATMs, and like devices comply with the proposed requirements, if implemented? What expenses would IDIs incur in making such revisions?

Innovation

(19) Do the proposed amendments pose potential challenges to the ability of IDI to innovate with respect to how consumers engage with an IDI and its products and services?

List of Subjects in 12 CFR Part 328

Advertising, Bank deposit insurance, Savings associations, Signs and symbols.

Authority and Issuance

For the reasons stated in the preamble, the Federal Deposit Insurance Corporation proposes to amend part 328 of title 12 of the Code of Federal Regulations as follows:

PART 328—FDIC OFFICIAL SIGNS, ADVERTISEMENT OF MEMBERSHIP, FALSE ADVERTISING, MISREPRESENTATION OF INSURED STATUS, AND MISUSE OF THE FDIC'S LOGO

1. The authority citation for part 328 continues to read as follows:

Authority: 12 U.S.C. 1818, 1819 (Tenth), 1820(c), 1828(a).

2. Revise § 328.4 to read as follows:

§ 328.4 Signs for automated teller machines (ATMs) and like devices.

(a) Scope. This section governs signage for insured depository institutions' ATMs and other remote electronic facilities (referred to as “like devices”) that receive deposits. For purpose of this section, ATMs and like devices are not digital deposit-taking channels.

(b) Display of FDIC official digital sign. Except as provided in paragraph (c) of this section, an insured depository institution must clearly, continuously, and conspicuously display the FDIC official digital sign specified in § 328.5(b) on the initial screen of the insured depository institution's ATMs and like devices.

(c) Limited exception for certain ATMs to display physical official sign. The physical official sign as described in § 328.2 may be displayed in lieu of the FDIC official digital sign as described in § 328.5(b), for:

(1) ATMs and like devices placed into service after January 1, 2027, that do not permit an insured depository institution's customer to transact with a non-deposit product; and

(2) ATMs and like devices placed into service on or before January 1, 2027.

(d) Non-deposit signage. An insured depository institution's ATM and like device that both receive deposits and permit a customer to transact with one or more non-deposit products must clearly, continuously, and conspicuously display signage indicating that the non-deposit products: are not insured by the FDIC; are not deposits; and may lose value. This signage must be displayed on the initial transaction page or initial transaction screen relating to a non-deposit product.

3. Revise § 328.5 to read as follows:

§ 328.5 Signs for digital deposit-taking channels.

(a) Scope. This section governs signage for digital deposit-taking channels, including insured depository institutions' websites and web-based or mobile applications, that offer the ability to make deposits electronically and provide access to deposits at insured depository institutions. This section does not apply to ATMs and like devices as described in § 328.4.

(b) Design. In general, the “FDIC” in the FDIC official digital sign shall be displayed in bold, navy blue or black, and the “FDIC-Insured—Backed by the full faith and credit of the U.S. Government” shall be displayed in smaller type, in italic, and with navy blue or black lettering. The entire FDIC official digital sign shall be displayed in Source Sans Pro Web or similar font. For an FDIC official digital sign that would be illegible if displayed in the colors listed in this paragraph, due to the color of the background, the FDIC official digital sign shall be displayed in white to contrast with the background, subject to the other requirements listed in this paragraph. The official digital sign required by the provisions of this section shall have the following design, for which wrapping may be permitted to address space constraints:

(c) Display of FDIC official digital sign. An insured depository institution's digital deposit-taking channel must clearly, continuously, and conspicuously display the FDIC official digital sign specified in paragraph (b) of this section on the following pages or screens:

(1) Initial page or homepage of the website or application;

(2) Login page; and

(3) Page or screen where the consumer initiates a deposit account opening.

(d) Non-deposit signage.

(1) Display of non-deposit signage. An insured depository institution's digital deposit-taking channel that offers the ability to make deposits electronically and provides access to deposits and one or more non-deposit products must clearly, continuously, and conspicuously display signage indicating that the non-deposit products: are not insured by the FDIC; are not deposits; and may lose value. This signage must be displayed on all pages or screens primarily dedicated to one or more non-deposit products.

(2) One-time notification for bank customers related to third-party non-deposit products.

(i) Notification requirement. An insured depository institution's digital deposit-taking channel that provides access to a non-deposit product from a non-bank third party's online interface must provide a one-time per session notification to a bank customer who is logged into the insured depository institution's deposit-taking channel before the customer leaves the insured depository institution's digital deposit-taking channel to access the non-bank third party's non-deposit product.

(ii) Content of notification. The notification in paragraph (d)(2)(i) of this section must clearly and conspicuously state that the third party's non-deposit products: are not insured by the FDIC; are not deposits; and may lose value.

(iii) Dismissal of notification. The notification in paragraph (d)(2)(i) of this section must either be dismissed by an affirmative act of the bank customer, such as a click or swipe, or automatically disappear from view after the customer has had a reasonable opportunity to read the notification. For the purpose of this requirement, a notification that remains visible for at least three seconds would provide a reasonable opportunity for a customer to read the notification.

(iv) Additional disclosures permitted. Nothing in this paragraph (d) shall be read to limit an insured depository institution's ability to include additional disclosures in the notification required by paragraph (d)(2)(i) of this section that may help prevent consumer confusion, including, for example, that the bank customer is leaving the insured depository institution's website.

(e) Examples of clear, continuous, and conspicuous placement. Examples of the FDIC official digital sign and non-deposit signage placement that would satisfy the “clear, continuous, and conspicuous” standard include, but are not limited to, the following:

(1) The homepage of an insured depository institution's website that continuously displays the FDIC official digital sign near the top of the page and adjacent to the insured depository institution's name;

(2) The login page for an insured depository institution's mobile application that displays the FDIC official digital sign immediately adjacent to the username and password fields;

(3) The deposit account opening page for an insured depository institution's web-based application that displays the FDIC official digital sign near the top or center of the page; and

(4) With respect to non-deposit signage, a page on an insured depository institution's website promoting, for example, annuities available for purchase, with non-deposit signage appearing towards the bottom of a promotional text or graphic in a size generally consistent with other text on the page.

4. Amend § 328.101 by adding the definition for “Digital symbol” in alphabetical order to read as follows:

§ 328.101 Definitions.

* * * * *

Digital symbol means the portion of the FDIC official digital sign, as set forth in § 328.5(b), consisting of “FDIC” and the one line of smaller type to the right of “FDIC”.

* * * * *

Federal Deposit Insurance Corporation.
By order of the Board of Directors.
Dated at Washington, DC, on August 19, 2025.
Jennifer M. Jones,
Deputy Executive Secretary.

[FR Doc. 2025-16056 Filed 8-20-25; 8:45 am]

BILLING CODE 6714-01-P